ENVIRONMENTAL PROTECTION AGENCY

[Docket No. FRL-8017-8]

Meeting of the Ozone Transport Commission

AGENCY: Environmental Protection Agency.

ACTION: Notice of meeting.

SUMMARY: The United States Environmental Protection Agency is announcing the 2006 Special Meeting of the Ozone Transport Commission (OTC). This OTC meeting will explore options available for reducing ground-level ozone precursors in a multi-pollutant context.

DATES: The meeting will be held on February 21, 2006 starting at 1 p.m. and February 22, 2006 at 9 a.m.

ADDRESSES: Hotel Washington, 515 15th Street, NW., Washington, DC 20004.

FOR FURTHER INFORMATION CONTACT: Marcia L. Spink, Associate Director, Air Protection Division, U.S. Environmental Protection Agency, Region III, 1650 Arch Street, Philadelphia, PA 19103; (215) 814-2100. For documents and press inquiries contact: Ozone Transport Commission, 444 North Capitol Street, NW., Suite 638, Washington, DC 20001; (202) 508-3840; e-mail: ozone@otcair.org; Web site: http://www.otcair.org.

SUPPLEMENTARY INFORMATION: The Clean Air Act Amendments of 1990 contain at Section 184 provisions for the “Control of Interstate Ozone Air Pollution.” Section 184(a) establishes an “Ozone Transport Region” (OTR) comprised of the States of Connecticut, Delaware, Maine, Maryland, Massachusetts, New Hampshire, New Jersey, New York, Pennsylvania, Rhode Island, Vermont, parts of Virginia and the District of Columbia. The purpose of the Ozone Transport commission is to deal with ground-level ozone formation, transport, and control within the OTR. The purpose of this notice is to announce that the OTC will meet on February 21-22, 2006 at the address noted earlier in this notice. This meeting will explore options available for reducing ground-level ozone precursors in a multi-pollutant context. Section 176A(b)(2) of the Clean Air Act Amendments of 1990 specifies that the meeting of the Ozone Transport Commission is not subject to the provisions of the Federal Advisory Committee Act. This meeting will be open to the public as space permits.

Type of Meeting: Open.

Agenda: Copies of the final agenda will be available from the OTC office (202) 508-3840 by e-mail: ozone@otcair.org or via the OTC Web site at http://www.otcair.org.

Dated: December 19, 2005.
Thomas Voltaggio,
Acting Regional Administrator, EPA Region III.

[FR Doc. E5-8124 Filed 12-29-05; 8:45 am]

BILLING CODE 6560-50-P